INTERNATIONAL TRADE COMMISSION

[Investigation No. 337-TA-1403]

Certain Sensors With Pixels and Products Containing the Same; Notice of a Commission Determination Not To Review an Initial Determination Terminating the Investigation Based on Settlement; Termination of Investigation

AGENCY: U.S. International Trade Commission.

ACTION: Notice.

SUMMARY: Notice is hereby given that the U.S. International Trade Commission (“Commission”) has determined not to review an initial determination (“ID”) (Order No. 60) of the presiding administrative law judge (“ALJ”) granting the complainant's motion to terminate the above-captioned investigation based on settlement. The investigation is terminated.

FOR FURTHER INFORMATION CONTACT: Lynde Herzbach, Office of the General Counsel, U.S. International Trade Commission, 500 E Street SW, Washington, DC 20436, telephone (202) 205-3228. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on June 5, 2024, based on a complaint filed by SiOnyx, LLC of Beverly, Massachusetts (“SiOnyx”). See 89 FR 48191-48192 (June 5, 2024). The complaint, as supplemented, alleges violations of section 337 of the Tariff Act of 1930, as amended, 19 U.S.C. 1337, in the importation into the United States, the sale for importation, or the sale within the United States after importation of certain sensors with pixels and products containing same by reason of the infringement of certain claims of U.S. Patent Nos. 9,064,764 (“the '764 patent”); 9,905,599 (“the '599 patent”); 10,224,359 (“the '359 patent”); 11,069,737 (“the '737 patent”); and 11,721,714 (“the '714 patent”). Id. The complaint further alleges that a domestic industry exists. Id. The Commission's notice of investigation named as respondents Samsung Electronics Co., Ltd. of Suwon, Republic of Korea; Samsung Electronics America, Inc. of Ridgefield Park, New Jersey; and Samsung Semiconductor, Inc. of San Jose, California (collectively, “Respondents”). Id. The Office of Unfair Import Investigations is not participating in the investigation. Id.

The Commission previously terminated the investigation as to claims 1-7, 12, 13, 19, 22, and 24 of the '764 patent; claims 2, 3, 10, 12-17, 20, 21, 25, 27, 29, 34, and 35 of the '599 patent; claims 2-4, 9, 10, 22, 25, 27, 30, 34, 38-40, 42-47, 49-53, 56-59, 62, 63, 65-67, 71-73, 76, 81, and 83 of the '359 patent; claims 1, 8, 9, 11, 14, 15, 17, 23, 25, 27, 31, 32, 34, 37, 40, 42, 46, 47, and 53 of the '737 patent; and claims 7, 8, and 14-16 of the '714 patent based on partial withdrawal of the complaint. Order No. 31 (Dec. 10, 2024), unreviewed by Comm'n Notice (Dec. 23, 2024). The Commission also previously terminated the investigation as to claims 9, 10, 11, 14, 15, and 25 of the '764 patent; claims 4, 5, 7, 22, 23, 26, and 30 of the '599 patent; claims 5, 6, 7, 8, 12, 13, 14, 19, 41, 44, 48, 54, 55, 60, 61, 64, 68, 69, 70, 74, 75, 80, and 82 of the '359 patent; claims 3, 5, 6, 7, 12, 13, 16, 18, 19, 20, 21, 22, 24, 26, 28, 29, 30, 35, 36, 38, 39, 43, 44, 45, 48, 49, 50, 51, 52, and 54 of the '737 patent; and claims 2, 3, 4, 5, 6, 9, 10, and 11 of the '714 patent based on withdrawal of the complaint as to those claims. Order No. 43 (June 9, 2025), unreviewed by Comm'n Notice (Mar. 24, 2025).

On May 29, 2025, SiOnyx moved for termination of this investigation in its entirety based on settlement. ID at 1 (citing Mot. at 1). The motion notes that it is “based on a Patent License Agreement between SiOnyx and [non-party] RPX Corporation (`RPX') and a Release Agreement between SiOnyx and Respondents Samsung Electronics Co., Ltd. (`SEC') on behalf of all Respondents.” Id. at 1 (citing Mot. at 1). The motion notes that Respondents do not oppose the motion. No responses to the motion were filed.

On June 9, 2025, the presiding ALJ issued the subject ID granting the motion to terminate the investigation and a Notice of Errata to the subject ID. See Order No. 60 (June 9, 2025); Notice of Errata to Order No. 60 (June 9, 2025) (identifying Order No. 60 as an initial determination). The subject ID finds that the motion complies with Commission Rule 210.21(b)(1) (19 CFR 210.21(b)) and that no extraordinary circumstances prevent granting the motion. The ID also finds that termination of the investigation based on settlement would not be contrary to the public interest.

No petitions for review of the ID were filed.

The Commission has determined not to review the subject ID (Order No. 60). The investigation is terminated.

The Commission vote for this determination took place on June 20, 2025.

The authority for the Commission's determination is contained in section 337 of the Tariff Act of 1930, as amended (19 U.S.C. 1337), and in Part 210 of the Commission's Rules of Practice and Procedure (19 CFR part 210).

By order of the Commission.
Issued: June 20, 2025.
Lisa Barton,
Secretary to the Commission.

[FR Doc. 2025-11658 Filed 6-24-25; 8:45 am]

BILLING CODE 7020-02-P